DEPARTMENT OF THE INTERIOR

Bureau of Land Management

[CO-600-05-1610-DF]

Notice of Public Meetings, Southwest Colorado Resource Advisory Council Meetings

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Southwest Colorado Resource Advisory Council (RAC) will meet as indicated below.

DATES: The Southwest Colorado RAC meetings will be held January 21, 2005; March 4, 2005; May 6, 2005; and July 22, 2005.

ADDRESSES: The Southwest Colorado RAC meetings will be held January 21, 2005, at the Bill Heddles Recreation Center, located at 530 Gunnison River Dr., Delta, CO; March 4, 2005, at the Holiday Inn Express, located at 1391 S. Townsend Ave., in Montrose, CO; May 6, 2005, at the Gunnison County Fairgrounds, Multipurpose Building, 275 S. Spruce St., in Gunnison, CO; and July 22, 2004, at the Avon Hotel, 144 E. 10 St., in Silverton, CO.

The Southwest Colorado RAC meetings will begin at 8 a.m. and adjourn at approximately 3 p.m. Public comment periods regarding matters on the agenda will be at 2 p.m.

FOR FURTHER INFORMATION CONTACT: Barbara Sharrow, BLM Uncompahgre field office manager, 2505 S. Townsend Ave., Montrose, CO; telephone 970-240-5300; or Melodie Lloyd, Public Affairs Specialist, 2815 H Rd., Grand Junction, CO, telephone 970-244-3097.

SUPPLEMENTARY INFORMATION: The Southwest Colorado RAC advises the Secretary of the Interior, through the Bureau of Land Management, on a variety of public land issues in Colorado.

Topics of discussion for all Southwest Colorado RAC meetings may include the BLM National Sage Grouse Conservation Strategy, committee reports, recreation, fire management, land use planning, invasive species management, energy and minerals management, travel management, wilderness, land exchange proposals, cultural resource management, and other issues as appropriate.

These meetings are open to the public. The public may present written comments to the RACs. Each formal RAC meeting will also have time, as identified above, allocated for hearing public comments. Depending on the number of persons wishing to comment and time available, the time for individual oral comments may be limited.

Dated: December 8, 2004.
Barbara Sharrow,
Uncompahgre Field Office Manager, Designated Federal Official for the Southwest Colorado RAC.

[FR Doc. 04-27515 Filed 12-15-04; 8:45 am]

BILLING CODE 4310-JB-P